DEPARTMENT OF TRANSPORTATION

National Highway Traffic Safety Administration

[Docket No. NHTSA-2016-0096; Notice 1]

Forest River, Inc., Receipt of Petition for Decision of Inconsequential Noncompliance

AGENCY: National Highway Traffic Safety Administration (NHTSA), Department of Transportation (DOT).

ACTION: Receipt of petition.

SUMMARY: Forest River, Inc. (Forest River), has determined that certain model year (MY) 2008-2016 Glaval, 2012-2016 Starcraft, and 2014-2016 StarTrans buses do not fully comply with Federal Motor Vehicle Safety Standard (FMVSS) No. 217, Bus emergency exits and window retention and release. Forest River filed reports dated April 14, 2016, and subsequently revised those reports on June 7, 2016, pursuant to 49 CFR part 573, Defect and Noncompliance Responsibility and Reports. Forest River then petitioned NHTSA under 49 CFR part 556 for a decision that the subject noncompliance is inconsequential as it relates to motor vehicle safety.

DATES: The closing date for comments on the petition is November 9, 2017.

ADDRESSES: Interested persons are invited to submit written data, views, and arguments on this petition. Comments must refer to the docket and notice number cited in the title of this notice and submitted by any of the following methods:

• Mail: Send comments by mail addressed to: U.S. Department of Transportation, Docket Operations, M-30, West Building Ground Floor, Room W12-140, 1200 New Jersey Avenue SE., Washington, DC 20590.

• Hand Deliver: Deliver comments by hand to U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by logging onto the Federal Docket Management System (FDMS) Web site at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

The petition, supporting materials, and all comments received before the close of business on the closing date indicated above will be filed in the docket and will be considered. All comments and supporting materials received after the closing date will also be filed and will be considered to the extent possible.

When the petition is granted or denied, notice of the decision will also be published in the Federal Register pursuant to the authority indicated at the end of this notice.

All documents submitted to the docket may be viewed by anyone at the address and times given above. The documents may also be viewed on the Internet at https://www.regulations.gov by following the online instructions for accessing the dockets. The docket ID number for this petition is shown in the heading of this notice.

DOT's complete Privacy Act Statement is available for review in the Federal Register notice published on April 11, 2000, (65 FR 19477-78).

SUPPLEMENTARY INFORMATION:

I. Overview

Forest River, Inc. (Forest River), has determined that certain model year (MY) 2008-2016 Glaval, 2012-2016 Starcraft, and 2014-2016 StarTrans buses do not fully comply with paragraph S5.5.1 of Federal Motor Vehicle Safety Standard (FMVSS) No. 217, Bus emergency exits and window retention and release. Forest River filed reports dated April 14, 2016, and subsequently revised those reports on June 7, 2016, pursuant to 49 CFR part 573, Defect and Noncompliance Responsibility and Reports. Forest River then petitioned NHTSA under 49 CFR part 556, pursuant to 49 U.S.C. 30118(d) and 30120(h) and their implementing regulations at 49 CFR part 556, for an exemption from the notification and remedy requirements of 49 U.S.C. Chapter 301 on the basis that this noncompliance is inconsequential as it relates to motor vehicle safety.

This notice of receipt of Forest River's petition is published under 49 U.S.C. 30118 and 30120 and does not represent any agency decision or other exercise of judgment concerning the merits of the petition.

II. Buses Involved

Affected are approximately 476 MY 2014-2016 StarTrans Bus Senator 2, Senator HD, Candidate 2, President, and PS 2 model buses manufactured between May 16, 2014 and April 6, 2016; approximately 7,716 MY 2012-2016 Starcraft Bus Xpress, Starquest, Starlite, Allstar, Allstar XL, MVP, Ultrastar, and XLT model buses manufactured between January 1, 2012 and April 6, 2016; and approximately 1,860 MY 2008-2016 Forest River, Inc. Glaval Bus Apollo, Concorde II, Entourage, Legacy, Primetime, Sport, Titan, Titan II and Titan II Low Floor model buses manufactured between August 1, 2008 and March 6, 2016.

III. Noncompliance

Forest River explains that the noncompliance results from the misplacement of the emergency egress labels on the emergency exit doors of the subject buses. Specifically, the emergency egress labels on the affected buses were centered on the window and are located within 25 centimeters of each of the release mechanisms, and not within 16 centimeters, as required by paragraph S5.5.1 of FMVSS No. 217. The labels are approximately 11 centimeters (or 4 inches) from where they are required to be on the exit doors.

IV. Rule Text

Paragraph S5.5.1 of FMVSS No. 217 requires in pertinent part:

S5.5.1 In buses other than school buses, and except for windows serving as emergency exits in accordance with S5.2.2.3(b) and doors in buses with a GVWR of 10,000 pounds or less, each emergency exit door shall have the designation “Emergency Door” or “Emergency Exit,” and every other emergency exit shall have the designation “Emergency Exit” followed by concise operating instructions describing each motion necessary to unlatch and open the exit, located within 16 centimeters of the release mechanism. . . .

V. Summary of Forest River's Petition

Forest River described the subject noncompliance and stated its belief that the noncompliance is inconsequential as it relates to motor vehicle safety.

In support of its petition, Forest River submitted the following reasoning:

(a) Since the promulgation of the FMVSS No. 217 original final rule, the primary purpose in requiring the emergency exit markings to be located within a set distance from the release mechanism has been to ensure that they are: (1) Located near the point of release and (2) are visible to passengers. See 37 FR 9394, 9395 (May 10, 1972, final rule). Both of these safety objectives are still met in the affected Forest River vehicles.

(b) All of the emergency egress windows are located on the rear wall of the affected buses. The markings are readable and the instructions on how to operate the release mechanism are concise and understandable as currently installed. The release mechanism is painted red, and contrasts with the black window frame and hardware. Centered in the window, the emergency exit marking is unobstructed by any other part of the window or the vehicle and should be readily apparent to passengers. Consequently, the location of the emergency egress designation labels in relation to the release mechanism do not compromise safety with regard to a passenger's ability to identify an emergency egress location or easily operate the release mechanism.

(c) The affected vehicles are transit buses, generally operated by private companies and would typically have trained drivers operating the vehicles and present to assist passengers exiting the vehicle in the event of an emergency. With a trained professional driver present, an emergency exit marking that is located approximately 4 inches further than allowed from the release mechanism is unlikely to have any tangible impact on passenger safety.

(d) The agency has previously granted petitions for inconsequential noncompliance under FMVSS No. 217 for conditions with the potential for a more direct and serious impact on safety. See NHTSA Docket No. 98-3791, New Flyer of America, Inc. (granting petition for inconsequential noncompliance where buses were manufactured with only one emergency exit instead of two); NHTSA Docket No. 2005-20545, IC Corporation, (granting petition for inconsequential noncompliance where school buses were manufactured with two emergency doors under the same post and roof bow panel space).

(e) Forest River is not aware of any complaints, warranty claims, accidents, injuries, or other field incidents related to the emergency egress markings not meeting the requirements of the standard. Forest River has corrected the noncompliance on all of the remaining windows in its possession. Forest River is also advised that Lippert Components, Inc. (LCI), the manufacturer of the windows and emergency exit marking labels, has corrected the noncompliance in its own production beginning on April 7, 2016.

Forest River's complete petition and all supporting documents are available by logging onto the Federal Docket Management System (FDMS) Web site at: https://www.regulations.gov/ and following the online search instructions to locate the docket number listed in the title of this notice.

In summation, Forest River believes that the described noncompliance in the subject buses is inconsequential as it relates to motor vehicle safety, and that its petition to exempt Forest River from providing notification of the noncompliance, as required by 49 U.S.C. 30118, and remedying the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject buses that Forest River no longer controlled at the time it determined that the noncompliance existed. However, any decision on this petition does not relieve vehicle distributors and dealers of the prohibitions on the sale, offer for sale, or introduction or delivery for introduction into interstate commerce of the noncompliant buses under their control after Forest River notified them that the subject noncompliance existed.

Authority: 49 U.S.C. 30118, 30120: Delegations of authority at 49 CFR 1.95 and 501.8.

Jeffrey M. Giuseppe,
Director, Office of Vehicle Safety Compliance.

[FR Doc. 2017-21666 Filed 10-6-17; 8:45 am]

BILLING CODE 4910-59-P